DEPARTMENT OF STATE

[Public Notice 4112]

Culturally Significant Objects Imported for Exhibition Determinations: “Théodore Chassériau (1819-1856): The Unknown Romantic” and “Manet/Velázquez: The French Taste for Spanish Painting”

AGENCY: Department of State.

ACTION: Notice.

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236 of October 19, 1999, as amended, I hereby determine that the objects to be included in the exhibitions “Théodore Chassériau (1819-1856): The Unknown Romantic” and “Manet/Velázquez: The French Taste for Spanish Painting” imported from abroad for temporary exhibition within the United States, are of cultural significance. The objects are imported pursuant to a loan agreement with the foreign owners. I also determine that the exhibition or display of the exhibit objects in “Th́odore Chassériau (1819-1856): The Unknown Romantic” at The Metropolitan Museum, New York, NY from on or about October 21, 2002 to on or about January 5, 2003, and “Manet/Velázquez: The French Taste for Spanish Painting,” at The Metropolitan Museum, New York, NY from on or about February 24, 2003 to on or about June 8, 2003, and at possible additional venues yet to be determined, is in the national interest. Public Notice of these Determinations is ordered to be published in the Federal Register.

FOR FURTHER INFORMATION CONTACT: For further information, contact Carol B. Epstein, Attorney-Adviser, Office of the Legal Adviser, U.S. Department of State, (telephone: 202/619-6981). The address is U.S. Department of State, SA-44, 301 4th Street, SW., Room 700, Washington, DC 20547-0001.

Dated: August 22, 2002.
Miller Crouch,
Acting Assistant Secretary for Educational and Cultural Affairs, Department of State.

[FR Doc. 02-22221 Filed 8-29-02; 8:45 am]

BILLING CODE 4710-08-P